ENVIRONMENTAL PROTECTION AGENCY

40 CFR Part 52

[EPA-R09-OAR-2011-0169; FRL-9286-9]

Approval and Promulgation of Implementation Plans; Nevada; Determination of Attainment for the Clark County 8-Hour Ozone Nonattainment Area

AGENCY: Environmental Protection Agency (EPA).

ACTION: Proposed rule.

SUMMARY: EPA proposes to determine that the Clark County (Nevada) 8-hour ozone nonattainment area has attained the 1997 8-hour ozone national ambient air quality standards (NAAQS). This proposed determination is based upon complete, quality-assured, and certified ambient air monitoring data that show the area has monitored attainment of the 1997 8-hour ozone NAAQS for the 2007 to 2009 monitoring period. Preliminary air quality monitoring data available for 2010 are consistent with continued attainment. Based on this proposed determination, the requirement for the State of Nevada to submit an attainment demonstration and associated reasonably available control measures (RACM), a reasonable further progress (RFP) plan, contingency measures, and other planning requirements related to attainment of the 1997 8-hour ozone NAAQS for the Clark County ozone nonattainment area would be suspended for as long as the nonattainment area continues to meet the 1997 8-hour ozone NAAQS. This action is being taken under the Clean Air Act (CAA).

DATES: Written comments must be received on or before April 28, 2011.

ADDRESSES: Submit comments, identified by docket number EPA-R09-OAR-2011-0169, by one of the following methods:

1. http://www.regulations.gov: Follow the on-line instructions for submitting comments.

2. E-mail: kelly.johnj@epa.gov.

3. Fax: (415) 947-3579.

4. Mail: “EPA-R09-OAR-2011-0169,” Lisa Hanf, Chief, Air Planning Office, Air Division, U.S. Environmental Protection Agency, Region IX, 75 Hawthorne Street (Air-2), San Francisco, California 94105.

5. Hand Delivery or Courier: At the previously-listed EPA Region IX address. Such deliveries are only accepted during the Docket's normal hours of operation, and special arrangements should be made for deliveries of boxed information.

Please see the direct final rule which is located in the Rules section of this Federal Register for detailed instructions on how to submit comments.

FOR FURTHER INFORMATION CONTACT: John Kelly, (415) 947-4151, or by e-mail at kelly.johnj@epa.gov.

SUPPLEMENTARY INFORMATION: For further information, please see the direct final action, of the same title, which is located in the Rules section of this Federal Register. EPA is approving the attainment determination and related suspension of attainment planning-related SIP submittal requirements as a direct final rule without prior proposal because EPA views this as a noncontroversial action and anticipates no adverse comments. A detailed rationale for the determination and suspension of attainment-related SIP submittal requirements is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on an amendment, paragraph, or section of this rule and if that provision may be severed from the remainder of the rule, EPA may adopt as final those provisions of the rule that are not the subject of an adverse comment.

Dated: March 15, 2011.
Jared Blumenfeld,
Regional Administrator, EPA Region IX.

[FR Doc. 2011-7222 Filed 3-28-11; 8:45 am]

BILLING CODE 6560-50-P